DEPARTMENT OF COMMERCE

Submission for OMB Review; Comment Request

The Department of Commerce will submit to the Office of Management and Budget (OMB) for clearance the following proposal for collection of information under the provisions of the Paperwork Reduction Act (44 U.S.C. chapter 35).

Agency: Bureau of Industry and Security.

Title: Statement by Ultimate Consignee and Purchaser.

Form Number(s): BIS-711.

OMB Control Number: 0694-0021.

Type of Review: Regular submission.

Estimated Total Annual Burden Hours: 110.

Estimated Number of Respondents: 414.

Estimated Time per Response: 16 minutes.

Needs and Uses: The collection is necessary under Part 748.11 of the EAR. This section states that the Form BIS-711, Statement by Ultimate Consignee and Purchaser, or a statement on company letterhead (in accordance with 748.11(b)(1)), must provide information on the foreign importer receiving the U.S. technology and how the technology will be utilized. The BIS-711 or letter provides assurances from the importer that the technology will not be misused, transferred or re-exported in violation of the EAR.

Affected Public: Business or other for-profit organizations.

Frequency: On occasion.

Respondent's Obligation: Voluntary.

This information collection request may be viewed at reginfo.gov http://www.reginfo.gov/public/. Follow the instructions to view Department of Commerce collections currently under review by OMB.

Written comments and recommendations for the proposed information collection should be sent within 30 days of publication of this notice to OIRA_Submission@omb.eop.gov.

Sheleen Dumas,
Departmental Lead PRA Officer, Office of the Chief Information Officer.

[FR Doc. 2018-13513 Filed 6-22-18; 8:45 am]

BILLING CODE 3510-33-P